DEPARTMENT OF THE TREASURY

Office of Foreign Assets Control

31 CFR Part 591

Publication of Venezuela Sanctions Regulations Web General Licenses 6, 10, 11, and Subsequent Iterations

AGENCY: Office of Foreign Assets Control, Treasury.

ACTION: Publication of web general licenses.

SUMMARY: The Department of the Treasury's Office of Foreign Assets Control (OFAC) is publishing five general licenses (GLs) issued in the Venezuela Sanctions program: GLs 6, 6A, 10, 10A, and 11, each of which was previously made available on OFAC's website.

DATES: GL 6 was issued on January 8, 2019. See SUPPLEMENTARY INFORMATION for additional relevant dates.

FOR FURTHER INFORMATION CONTACT: OFAC: Assistant Director for Licensing, 202-622-2480; Assistant Director for Regulatory Affairs, 202-622-4855; or Assistant Director for Sanctions Compliance & Evaluation, 202-622-2490.

SUPPLEMENTARY INFORMATION:

Electronic Availability

This document and additional information concerning OFAC are available on OFAC's website: www.treas.gov/ofac.

Background

On January 8, 2019, OFAC issued GL 6, and on January 28, 2019, OFAC issued GLs 10 and 11 to authorize certain transactions otherwise prohibited by Executive Order (E.O.) 13850 of November 1, 2018, “Blocking Property of Additional Persons Contributing to the Situation in Venezuela” (83 FR 55243, November 2, 2018). Subsequently, OFAC issued one further iteration of GL 6 and one of GL 10: on January 7, 2020, OFAC issued GL 6A, which superseded GL 6 and on August 5, 2019, OFAC issued GL 10A, which superseded GL 10 and authorized certain transactions otherwise prohibited by E.O. 13884 of August 5, 2019, “Blocking Property of the Government of Venezuela” (84 FR 38843, August 7, 2019) and by E.O. 13850. GLs 6A and 11 have now expired. Each GL was made available on OFAC's website (www.treas.gov/ofac) when it was issued. The text of these GLs is provided below.

OFFICE OF FOREIGN ASSETS CONTROL

Executive Order 13850 of November 1, 2018

Blocking Property of Additional Persons Contributing to the Situation in Venezuela

GENERAL LICENSE NO. 6

Authorizing Certain Activities Necessary to the Maintenance or Wind Down of Operations or Existing Contracts With Globovision Tele C.A. or Globovision Tele CA, Corp.

(a) Except as provided in paragraph (d) of this general license, all transactions and activities otherwise prohibited by subsection 1(a) of Executive Order 13850 of November 1, 2018 (“Blocking Property of Additional Persons Contributing to the Situation in Venezuela”) (E.O. 13850), that are ordinarily incident and necessary to the maintenance or wind down of operations, contracts, or other agreements, including the importation of goods, services, or technology into the United States, involving Globovision Tele C.A. or Globovision Tele CA, Corp., or any entity in which Globovision Tele C.A. or Globovision Tele CA, Corp. owns, directly or indirectly, a 50 percent or greater interest and that were in effect prior to January 8, 2019, are authorized through 12:01 a.m. eastern daylight time, January 8, 2020.

(b) Any payment to or for the direct or indirect benefit of a blocked person that is ordinarily incident and necessary to give effect to a transaction authorized in paragraph (a) of this general license must be made into a blocked, interest-bearing account located in the United States in accordance with 31 CFR part 591. Any such payment that is directly or indirectly to the account of a blocked U.S. person identified in paragraph (a) at a U.S. financial institution may be processed in accordance with the original wire transfer instructions, provided that those instructions are consistent with this general license.

(c) All funds in accounts of blocked U.S. persons identified in paragraph (a), including funds originating from authorized payments to such accounts received on or after January 8, 2019, may be used for maintenance or wind-down activities authorized by this general license.

(d) This general license does not authorize:

(1) The divestiture or transfer of debt, equity, or other holdings in, to, or for the benefit of the blocked persons identified above;

(2) Any transactions or dealings otherwise prohibited by E.O. 13850, Executive Order 13835 of May 21, 2018, Executive Order 13827 of March 19, 2018, Executive Order 13808 of August 24, 2017, Executive Order 13692 of March 8, 2015, or any part of 31 CFR chapter V, or any transactions or dealings with any blocked person other than the blocked persons identified in paragraph (a) of this general license;

(3) The unblocking of any property blocked pursuant to E.O. 13850, Executive Order 13692 of March 8, 2015, or any part of 31 CFR chapter V, except as authorized by paragraphs (a), (b), or (c); or

(4) The exportation of goods from the United States.

(e) U.S. persons participating in transactions authorized by this general license are required, within 10 business days after the expiration date of this general license, to file a comprehensive, detailed report of each transaction, including the names and addresses of parties involved, the type and scope of activities conducted, and the dates on which the activities occurred, with the Office of Foreign Assets Control, Office of Compliance and Enforcement, U.S. Department of the Treasury, 1500 Pennsylvania Avenue NW, Freedman's Bank Building, Washington, DC 20220, or via email to OFACReport@treasury.gov.

Andrea Gacki,

Director, Office of Foreign Assets Control.

Dated: January 8, 2019.

OFFICE OF FOREIGN ASSETS CONTROL

Executive Order 13850 of November 1, 2018

Blocking Property of Additional Persons Contributing to the Situation in Venezuela

GENERAL LICENSE NO. 6A

Authorizing Certain Activities Necessary to the Wind Down of Operations or Existing Contracts With Globovision Tele C.A. or Globovision Tele CA, Corp.

(a) Except as provided in paragraph (d) of this general license, all transactions and activities prohibited by subsection 1(a) of Executive Order (E.O.) 13850, as amended by E.O. 13857 of January 25, 2019, that are ordinarily incident and necessary to the wind down of operations, contracts, or other agreements, including the importation of goods, services, or technology into the United States, involving Globovision Tele C.A. or Globovision Tele CA, Corp., or any entity in which Globovision Tele C.A. or Globovision Tele CA, Corp. owns, directly or indirectly, a 50 percent or greater interest and that were in effect prior to January 8, 2019, are authorized through 12:01 a.m. eastern standard time, January 21, 2020.

(b) Any payment to or for the direct or indirect benefit of a blocked person that is ordinarily incident and necessary to give effect to a transaction authorized in paragraph (a) of this general license must be made into a blocked, interest-bearing account located in the United States in accordance with 31 CFR part 591. Any such payment that is directly or indirectly to the account of a blocked U.S. person identified in paragraph (a) at a U.S. financial institution may be processed in accordance with the original wire transfer instructions, provided that those instructions are consistent with this general license.

(c) All funds in accounts of blocked U.S. persons identified in paragraph (a), including funds originating from authorized payments to such accounts received on or after January 8, 2019, may be used for wind-down activities authorized by this general license.

(d) This general license does not authorize:

(1) The divestiture or transfer of debt, equity, or other holdings in, to, or for the benefit of the blocked persons identified above;

(2) Any transactions or dealings otherwise prohibited by E.O. 13884 of August 5, 2019, or E.O. 13850, E.O. 13835 of May 21, 2018, E.O. 13827 of March 19, 2018, E.O. 13808 of August 24, 2017, or E.O. 13692 of March 8, 2015, each as amended by E.O. 13857, or any part of 31 CFR chapter V, or any transactions or dealings with any blocked person other than the blocked persons identified in paragraph (a) of this general license;

(3) The unblocking of any property blocked pursuant to E.O. 13884, or E.O. 13850 or E.O. 13692, each as amended by E.O. 13857, or any part of 31 CFR chapter V, except as authorized by paragraphs (a), (b), or (c); or

(4) The exportation of goods from the United States.

(e) U.S. persons participating in transactions authorized by this general license are required, within 10 business days after the expiration date of this general license, to file a comprehensive, detailed report of each transaction, including the names and addresses of parties involved, the type and scope of activities conducted, and the dates on which the activities occurred, with the Office of Foreign Assets Control, Office of Compliance and Enforcement, U.S. Department of the Treasury, 1500 Pennsylvania Avenue NW, Freedman's Bank Building, Washington, DC 20220, or via email to OFACReport@treasury.gov.

(f) Effective January 7, 2020, General License No. 6, dated January 8, 2019, is replaced and superseded in its entirety by this General License No. 6A.

Andrea Gacki,

Director, Office of Foreign Assets Control.

Dated: January 7, 2020.

OFFICE OF FOREIGN ASSETS CONTROL

Executive Order 13850 of November 1, 2018

Blocking Property of Additional Persons Contributing to the Situation in Venezuela

GENERAL LICENSE NO. 10

Authorizing the Purchase in Venezuela of Refined Petroleum Products From Petróleos de Venezuela, S.A. (PdVSA)

(a) Except as provided in paragraph (b) of this general license, U.S. persons in Venezuela are authorized to purchase refined petroleum products for personal, commercial, or humanitarian uses from PdVSA or any entity in which PdVSA owns, directly or indirectly, a 50 percent or greater interest.

(b) This general license does not authorize:

(1) Any commercial resale, transfer, exportation or reexportation of refined petroleum products; or

(2) Any transactions or dealings otherwise prohibited by Executive Order 13850 of November 1, 2018, Executive Order 13835 of May 21, 2018, Executive Order 13827 of March 19, 2018, Executive Order 13808 of August 24, 2017, Executive Order 13692 of March 8, 2015, or any part of 31 CFR chapter V, or any transactions or dealings with any blocked person other than the blocked persons identified in paragraph (a) of this general license.

Andrea Gacki,

Director, Office of Foreign Assets Control.

Dated: January 28, 2019.

OFFICE OF FOREIGN ASSETS CONTROL

Executive Order 13850 of November 1, 2018

Blocking Property of Additional Persons Contributing to the Situation in Venezuela

Executive Order of August 5, 2019

Blocking Property of the Government of Venezuela

GENERAL LICENSE NO. 10A

Authorizing the Purchase in Venezuela of Refined Petroleum Products From Petróleos de Venezuela, S.A. (PdVSA)

(a) Except as provided in paragraph (b) of this general license, U.S. persons in Venezuela are authorized to purchase refined petroleum products for personal, commercial, or humanitarian uses from PdVSA or any entity in which PdVSA owns, directly or indirectly, a 50 percent or greater interest.

(b) All transactions involving the Government of Venezuela that would otherwise be prohibited by Executive Order (E.O.) of August 5 that are necessary for the activities set forth in paragraph (a) of this general license are authorized, including payment of taxes, fees, and import duties to, and purchase or receipt of permits, licenses, or public utility services from, the Government of Venezuela.

(c) This general license does not authorize:

(1) Any commercial resale, transfer, exportation, or reexportation of refined petroleum products; or

(2) Any transactions or dealings otherwise prohibited by E.O. of August 5, 2019 or E.O. 13850, E.O. 13835 of May 21, 2018, E.O. 13827 of March 19, 2018, E.O. 13808 of August 24, 2017, or E.O. 13692 of March 8, 2015, each as amended by E.O. 13857 of January 25, 2019, or any part of 31 CFR chapter V, or any transactions or dealings with any blocked person other than the blocked persons identified in paragraph (a) or (b) of this general license.

(c) Effective August 5, 2019, General License No. 10, dated January 28, 2019, is replaced and superseded in its entirety by this General License No. 10A.

Andrea Gacki,

Director, Office of Foreign Assets Control.

Dated: August 5, 2019.

OFFICE OF FOREIGN ASSETS CONTROL

Executive Order 13850 of November 1, 2018

Blocking Property of Additional Persons Contributing to the Situation in Venezuela

GENERAL LICENSE NO. 11

Authorizing Certain Activities Necessary to Maintenance or Wind Down of Operations or Existing Contracts With Petróleos De Venezuela, S.A. (PdVSA)

(a) Except as provided in paragraph (c) of this general license, U.S. person employees and contractors of non-U.S. entities located in a country other than the United States or Venezuela are authorized to engage in all transactions and activities prohibited by Executive Order 13850 that are ordinarily incident and necessary to the maintenance or wind down of operations, contracts, or other agreements involving PdVSA or any entity in which PdVSA owns, directly or indirectly, a 50 percent or greater interest, that were in effect prior to January 28, 2019. This authorization is valid through 12:01 a.m. eastern daylight time, March 29, 2019.

(b) Except as provided in paragraph (c) of this general license, U.S. financial institutions are authorized to reject funds transfers involving both (i) PdVSA or any entity in which PdVSA owns, directly or indirectly, a 50 percent or greater interest, and (ii) non-U.S. entities located in a country other than the United States or Venezuela, provided that the funds transfers originate and terminate outside the United States and that neither the originator nor the beneficiary is a U.S. person and the funds are not destined for a blocked account on the books of a U.S. person. This authorization is valid through 12:01 a.m. eastern daylight time, March 29, 2019.

(c) This general license does not authorize:

(1) Any transactions or dealings with ALBA de Nicaragua (ALBANISA) or any entity in which ALBANISA owns, directly or indirectly, a 50 percent or greater interest;

(2) Any transactions or dealings otherwise prohibited by Executive Order 13850 of November 1, 2018, Executive Order 13835 of May 21, 2018, Executive Order 13827 of March 19, 2018, Executive Order 13808 of August 24, 2017, Executive Order 13692 of March 8, 2015, or any part of 31 CFR chapter V, or any transactions or dealings with any blocked person other than the blocked persons identified in paragraphs (a) and (b) of this general license; or

(3) The unblocking of any property blocked pursuant to any part of 31 CFR chapter V, except as authorized by paragraphs (a) or (b).

Andrea Gacki,

Director, Office of Foreign Assets Control.

Dated: January 28, 2019.

Andrea M. Gacki,
Director, Office of Foreign Assets Control.

[FR Doc. 2023-02045 Filed 1-31-23; 8:45 am]

BILLING CODE P